ENVIRONMENTAL PROTECTION AGENCY

[FRL-7631-1]

Proposed CERCLA Administrative Cost Recovery Settlement; Union Pacific Railroad Company, Northwest Oil Drain Superfund Site, Salt Lake City, UT

AGENCY: Environmental Protection Agency (EPA).

ACTION: Administrative Order On Consent; request for public comment.

SUMMARY: In accordance with the requirements of Section 122(i) of the Comprehensive Environmental Response, Compensation, and Liability Act, as amended (CERCLA), 42 U.S.C. 9622(i), notice is hereby given of a proposed Administrative Order On Consent (AOC) for recovery of certain past response costs concerning the Northwest Oil Drain (NWOD) Superfund Site in Salt Lake City, Utah, with the Union Pacific Railroad Company (UPRR), Respondent. The settlement requires UPRR to pay $100,000.00 to the Hazardous Substance Superfund for partial payment of past response costs incurred by EPA. The settlement includes a covenant not to sue the Respondent pursuant to Sections 106 and 107 (a) of CERCLA, 42 U.S.C. 9606 and 9607(a), Sections 309(b) and 311 of the Clean Water Act, 42 U.S.C. 1319 and 1321, and Section 1002 (a) and (b)(1) of the Oil Pollution Act of 1990, 33 U.S.C. 2702(a) and (b)(1), for the Site, for the Matters Addressed in the AOC. The AOC also provides that Respondent is entitled to contribution protection for Matters Addressed, as provided by Section 113(j) of CERCLA, 42 U.S.C. 9613(j).

The NWOD is located in northern Salt Lake County and in Davis County, northwest of downtown Salt Lake City, Utah. The NWOD was constructed in the 1920's and was used to convey stormwater and industrial and municipal discharges into the Great Salt Lake. Presently, the NWOD is composed of a series of former and existing unlined canals including a flowing and open section and a non-flowing section. The sludge/sediment in the NWOD contains elevated concentrations of organic contaminants and metals.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Day-Riverside Branch Library, 1575 West 1000 North, Salt Lake City, Utah, and at the Superfund Records Center, EPA Region 8, 999 18th Street, Suite 300, Denver, Colorado.

DATES: Comments must be submitted on or before April 2, 2004.

ADDRESSES: The proposed settlement is available for public inspection at the Superfund Records Center, EPA Region 8, 999 18th Street, Suite 300, Denver, CO 80202-2466, (303) 312-6473, and at the Day-Riverside Branch Library, Salt Lake City, Utah. Comments should be addressed to James M. Stearns, (8ENF-L), Enforcement Attorney, U.S. Environmental Protection Agency, Region 8, 999 18th Street, Suite 300, Denver, CO 80202-2466, and should reference the Administrative Order on Consent, Respondent UPRR, Northwest Oil Drain Superfund Site, Salt Lake City, Utah.

FOR FURTHER INFORMATION CONTACT: James M. Stearns, (8ENF-L), Enforcement Attorney, U.S. Environmental Protection Agency, Region 8, 999 18th Street, Suite 300, Denver, CO 80202-2466, (303) 312-6912.

SUPPLEMENTARY INFORMATION: An earlier AOC, EPA Docket No. CERCLA-08-2003-0014, was entered into by Respondents Salt Lake City Corporation, Salt Lake County, BP Products North America Inc., and Chevron U.S.A. Inc. (“NWOD PRP Group”), to perform response activities to remove contaminated sludge/sediment in the NWOD and to pay certain past response costs. The proposed settlement with UPRR includes a covenant-not-to-sue with respect to Future Response Costs and the work to be performed at the Site. The covenant-not-to-sue will only take effect upon certification by UPRR that it has performed or paid for the performance of its proportionate share of the work to be performed by the NWOD PRP Group.

Dated: February 17, 2004.
Carol Rushin,
Assistant Regional Administrator, Office of Enforcement, Compliance, and Environmental Justice.

[FR Doc. 04-4699 Filed 3-2-04; 8:45 am]

BILLING CODE 6560-50-P